DEPARTMENT OF THE INTERIOR

National Park Service

National Register of Historic Places; Notification of Pending Nominations and Related Actions

Nominations for the following properties being considered for listing or related actions in the National Register were received by the National Park Service before April 7, 2007. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by May 8, 2007.

J. Paul Loether,
Chief, National Register of Historic Places/National Historic Landmarks Program.

CONNECTICUT

Hartford County

Filley, Capt. Oliver, House, 130 Mountain Ave., Bloomfield, 07000420

Litchfield County

Riverton Historic District, Roughly bounded by Still and Farmington R and E. River Rd., Riverton, 07000419

Middlesex County

Parmelee House, 4 Beckwith Rd., Killingworth, 07000417

New London County

Lord, Capt. Enoch, House, 17 Tantummaheag Rd., Old Lyme, 07000418

DISTRICT OF COLUMBIA

District of Columbia

Bulletin Building, 717 6th St., NW., Washington, 07000422

Greater Fourteenth Street Historic District (Boundary Increase), 1400 Blks of P St., Rhode Island Ave., N St. and Massachusetts Ave., Washington, 07000421

FLORIDA

Hillsborough County

Hillsborough County High School, Old, 2704 N. Highland Ave., Tampa, 07000423

LOUISIANA

Iberville Parish

Bagatelle Plantation House, 695 LA 991, Sunshine, 07000424

MINNESOTA

Kandiyohi County

Willmar Tribune Building, 311 Fourth St. SW., Willmar, 07000425

Ramsey County

Payne Avenue State Bank, 965 Payne Ave., St. Paul, 07000426

NEBRASKA

Douglas County

Margaret, The, 2103 N. 16th St., Omaha, 07000427

WISCONSIN

Forest County

Butternut—Franklin Lakes Archeological District, Eagle River—Florence Ranger District, Chequamegon-Nicolet National Forest Hiles, 07000429

La Crosse County

Mindoro Cut, WI 108, bet. Mindoro and West Salem, Hamilton, 07000428

A request for a Move has been made for the following resource:

LOUISIANA

Caddo Parish

Antoine, C.C., House 1941 Perrin St. Shreveport, 99001013

[FR Doc. E7-7600 Filed 4-20-07; 8:45 am]

BILLING CODE 4312-51-P